DEPARTMENT OF AGRICULTURE

Food Safety and Inspection Service

[Docket No. FSIS 2006-0015C]

Nominations for Membership on the National Advisory Committee on Microbiological Criteria for Foods; Correction

AGENCY: Food Safety and Inspection Service, USDA.

ACTION: Notice; correction.

SUMMARY: The Food Safety and Inspection Service (FSIS) published a document in the Federal Register on June 23, 2006, concerning Nominations for Membership on the National Advisory Committee on Microbiological Criteria for Foods (NACMCF). Correction: In the Federal Register of June 23, 2006, Volume 71, Number 121, on page 36056, the last paragraph of the SUPPLEMENTARY INFORMATION section states that “Members (of the committee) are required to attend all meetings in-person as this is necessary for the functioning of the advisory committee.” As a point of clarification, the physical presence of members at subcommittee working groups and at plenary sessions is critical to the continued success of the work of NACMCF. However, we realize that unexpected events or extenuating circumstances (e.g., a personal or family emergency) may result in a member's inability to attend a meeting in-person, and that attendance through teleconferencing may be necessary. Since this has been a less than optimal means to contribute to the work of the committee, members should make efforts to attend all meetings to the extent that it is possible to do so. In-person attendance is expected but is not a requirement. The Agency is publishing this corrected notice and is accepting nominations 30 calendar days from the date of the publication of this corrected notice.

FSIS is republishing in this notice the entire contents from the prior Federal Register notice published on June 23, 2006—Nominations for Membership on the National Advisory Committee on Microbiological Criteria for Foods. The only changes in this correction notice are about the in-person attendance of NACMCF members at NACMCF meetings and the date for accepting nominations.

This corrected notice announces that the U.S. Department of Agriculture (USDA) is soliciting nominations for membership on the NACMCF. Nominations for membership are being sought from individuals with scientific expertise in the fields of epidemiology, food technology, microbiology (food, clinical, and predictive), risk assessment, infectious disease, biostatistics, and other related sciences. Persons from State and Federal governments, industry, consumer groups, and academia, as well as all other interested persons, are invited to submit nominations. Members who are not federal government employees will be appointed to serve as non-compensated special government employees (SGEs). SGEs will be subject to appropriate conflict of interest statutes and standards of ethical conduct.

The nominee's typed resume or curriculum vitae must be limited to five one-sided pages and should include educational background, expertise, and a select list of publications. For submissions received that are more than five one-sided pages in length, only the first five pages will be considered.

DATES: The nominee's typed resume or curriculum vitae must now be received by September 22, 2006.

ADDRESSES: Nominations should be sent to Ms. Karen Thomas, Advisory Committee Specialist, USDA, FSIS, Room 333 Aerospace Center, 1400 Independence Avenue, SW., Washington, DC 20250-3700, or by e-mail at karen.thomas@fsis.usda.gov.

FOR FURTHER INFORMATION CONTACT: Ms. Karen Thomas, Advisory Committee Specialist, at the above address or by telephone at 202-690-6620 or by fax at 202-690-6634.

SUPPLEMENTARY INFORMATION:

Background

The NACMCF was established in March 1988, in response to a recommendation in a 1985 report of the National Academy of Sciences Committee on Food Protection, Subcommittee on Microbiological Criteria, “An Evaluation of the Role of Microbiological Criteria for Foods.” The current charter for the NACMCF and other information about the Committee are available for viewing on the NACMCF homepage at http://www.fsis.usda.gov/About_FSIS/NACMCF/index.asp.

The Committee provides scientific advice and recommendations to the Secretary of Agriculture and the Secretary of Health and Human Services concerning the development of microbiological criteria by which the safety and wholesomeness of food can be assessed. For example, the Committee assists in the development of criteria for microorganisms that indicate whether food has been processed using good manufacturing practices.

Appointments to the Committee will be made by the Secretary of Agriculture after consultation with the Secretary of Health and Human Services to ensure that recommendations made by the Committee take into account the needs of the diverse groups served by the Department. Membership shall include, to the extent practicable, individuals with demonstrated ability to represent minorities, women, and persons with disabilities.

Given the complexity of issues, the full Committee expects to meet at least twice yearly, and the meetings will be announced in the Federal Register. The subcommittees will meet as deemed necessary by the chairperson and will be held as working group meetings in an open public forum. The subcommittee meetings will not be announced in the Federal Register. FSIS will announce the agenda and subcommittee working group meetings through the Constituent Update, available on-line at http://www.fsis.usda.gov/News_&_Events/2006_Constituent_Update/index.asp. NACMCF holds subcommittee working group meetings in order to accomplish the work of the NACMCF; all work accomplished by the subcommittees is reviewed and approved by the full Committee during a public meeting of the full Committee, as announced in the Federal Register. The subcommittee may invite technical experts to present information for consideration by the subcommittee. All data and records available to the full Committee are expected to be available to the public at the time the full Committee reviews and approves the work of the subcommittee.

Appointment to the Advisory Committee is for a two-year term, renewable for a total of three consecutive terms. Members are expected to attend all meetings in-person as this is necessary for the functioning of this advisory committee. However, we realize that unexpected events or extenuating circumstances (e.g., a personal or family emergency) may result in a member's inability to attend a meeting in-person, and that attendance through teleconferencing may be necessary. Since this has been a less than optimal means to contribute to the work of the committee, members should make efforts to attend all meetings to the extent that this is possible. In-person attendance is expected but is not a requirement.

Members must be prepared to work outside of scheduled Committee and subcommittee meetings, and may be required to assist in document preparation. Committee members serve on a voluntary basis; however, travel reimbursement and per diem are available.

Regarding Nominees Who Are Selected

All nominees who are selected must submit a USDA Advisory Committee Membership Background Information form AD-755, available on-line at: http://www.fsis.usda.gov/FSISForms/AD-755.pdf.

As new appointees, SGEs must complete the Office of Government Ethics (OGE) 450 Confidential Financial Disclosure Report, before rendering any advice, or prior to their first meeting. All members will be reviewed for conflict of interest pursuant to 18 U.S.C. 208 in relation to specific NACMCF work charges. Financial disclosure updates will be required annually. Members must report any changes in financial holdings requiring additional disclosure. OGE 450 forms are available on-line at: http://www.usoge.gov/pages/forms_pubs_otherdocs/fpo_files/forms/fr450fill_04.pdf.

Additional Public Notification

Public awareness of all segments of rulemaking and policy development is important. Consequently, in an effort to ensure that minorities, women, and persons with disabilities are aware of this notice, FSIS will announce it on-line through the FSIS Web page located at http://www.fsis.usda.gov/regulations/2006_Notices_Index/. FSIS also will make copies of this Federal Register publication available through the FSIS Constituent Update, which is used to provide information regarding FSIS policies, procedures, regulations, Federal Register notices, FSIS public meetings, recalls and other types of information that could affect or would be of interest to constituents and stakeholders. The update is communicated via Listserv, a free electronic mail subscription service for industry, trade and farm groups, consumer interest groups, allied health professionals and other individuals who have asked to be included. The update is available on the FSIS Web page. Through the Listserv and Web page, FSIS is able to provide information to a much broader and more diverse audience. In addition, FSIS offers an e-mail subscription service which provides automatic and customized access to selected food safety news and information. This service is available at http://www.fsis.usda.gov/news_and_events/email_subscription/. Options range from recalls to export information to regulations, directives and notices. Customers can add or delete subscriptions themselves and have the option to password protect their account.

Done at Washington, DC on: August 17, 2006.
Barbara J. Masters,
Administrator.

[FR Doc. E6-13976 Filed 8-22-06; 8:45 am]

BILLING CODE 3410-DM-P